ENVIRONMENTAL PROTECTION AGENCY

[ER-FRL-8593-4]

Environmental Impacts Statements; Notice of Availability

Responsible Agency: Office of Federal Activities, General Information, (202) 564-7167 or http://www.epa.gov/compliance/nepa/.

Weekly receipt of Environmental Impact Statements filed 05/04/2009 through 05/08/2009 pursuant to 40 CFR 1506.9.

EIS No. 20090150, Revised Draft EIS, FHW, IN, I-69 Evansville to Indianapolis, Indiana Project, Section 2, Revised to Update the Stream Impacts, Oakland City to Washington, (IN-64 to US 50), Gibson, Pike and Daviess Counties, IN, Comment Period Ends: 06/29/2009, Contact: Janice Osadczuk, 317-226-7486.

EIS No. 20090151, Draft EIS, NPS, CA, Prisoners Harbor Coastal Wetland Restoration Project, Proposes to Restore a Functional, Self-Sustaining Ecosystem at a Coastal Wetland Site, Channel Islands National Park, Santa Cruz Island, Santa Barbara County, CA, Comment Period Ends: 07/13/2009, Contact: Paula Power, 805-658-5784.

EIS No. 20090152, Draft EIS, BLM, UT, Mona to Oquirrh Transmission Corridor Project and Draft Pong Express Resource Management Plan Amendment, Construction, Operation, Maintenance and Decommissioning a Double-Circuit 500/345 Kilovolt (Kv) Transmission Line, Right-of-Way Grant, Rocky Mountain Power, Juab, Salt Lake, Tooele and Utah Counties, UT, Comment Period Ends: 08/03/2009, Contact: Mike Nelson, 801-977-4300.

Dated: May 12, 2009.
Robert W. Hargrove,
Director, NEPA Compliance Division, Office of Federal Activities.

[FR Doc. E9-11395 Filed 5-14-09; 8:45 am]

BILLING CODE 6560-50-P